INTERNATIONAL TRADE COMMISSION

[USITC SE-23-054]

Sunshine Act Meetings

AGENCY HOLDING THE MEETING: United States International Trade Commission.

TIME AND DATE: November 17, 2023 at 11 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. Nos 701-TA-695-698 and 731-TA-1643-1657 (Preliminary) (Aluminum Extrusions from China, Colombia, Dominican Republic, Ecuador, India, Indonesia, Italy, Malaysia, Mexico, South Korea, Taiwan, Thailand, Turkey, United Arab Emirates, and Vietnam). The Commission currently is scheduled to complete and file its determinations on November 20, 2023; views of the Commission currently are scheduled to be completed and filed on November 28, 2023.

5. Outstanding action jackets: none.

CONTACT PERSON FOR MORE INFORMATION: Sharon Bellamy, Supervisory Hearings and Information Officer, 202-205-2000.

The Commission is holding the meeting under the Government in the Sunshine Act, 5 U.S.C. 552(b). In accordance with Commission policy, subject matter listed above, not disposed of at the scheduled meeting, may be carried over to the agenda of the following meeting.

By order of the Commission.
Issued: November 6, 2023.
Sharon Bellamy,
Supervisory Hearings and Information Officer.

[FR Doc. 2023-24812 Filed 11-6-23; 11:15 am]

BILLING CODE 7020-02-P